DEPARTMENT OF COMMERCE

National Oceanic and Atmospheric Administration

50 CFR Part 622

RIN 0648-BE38

Fisheries of the Caribbean, Gulf of Mexico, and South Atlantic; Snapper-Grouper Fishery and Golden Crab Fishery of the South Atlantic, and Dolphin and Wahoo Fishery of the Atlantic

AGENCY: National Marine Fisheries Service (NMFS), National Oceanic and Atmospheric Administration (NOAA), Commerce.

ACTION: Notice of availability; request for comments.

SUMMARY: The South Atlantic Fishery Management Council (Council) has submitted Amendment 34 to the Fishery Management Plan (FMP) for the Snapper-Grouper Fishery of the South Atlantic Region, Amendment 9 to the FMP for the Golden Crab Fishery of the South Atlantic Region, and Amendment 8 to the FMP for the Dolphin and Wahoo Fishery of the Atlantic; collectively referred to as the Generic Accountability Measures (AMs) and Dolphin Allocation Amendment (Generic AM Amendment) for review, approval, and implementation by NMFS. If approved by the Secretary of Commerce, the Generic AM Amendment would revise the commercial and recreational AMs for numerous snapper-grouper species and golden crab. This amendment would also revise commercial and recreational sector allocations for dolphin in the Atlantic. The proposed actions are intended to make the AMs consistent for the snapper-grouper species addressed in this amendment and for golden crab, and revise the allocations between the commercial and recreational sectors for dolphin.

DATES: Written comments on the Generic AM Amendment must be received on or before September 14, 2015.

ADDRESSES: You may submit comments on the proposed amendment and environmental assessment identified by “NOAA-NMFS-2013-0181” by either of the following methods:

• Electronic Submission: Submit all electronic comments via the Federal e-Rulemaking Portal. Go to www.regulations.gov/#!docketDetail;D=NOAA-NMFS-2013-0181, click the “Comment Now!” icon, complete the required fields, and enter or attach your comments.

• Mail: Submit all written comments to Mary Janine Vara, NMFS Southeast Regional Office (SERO), 263 13th Avenue South, St. Petersburg, FL 33701.

Instructions: Comments sent by any other method, to any other address or individual, or received after the end of the comment period may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Electronic copies of the Generic AM Amendment may be obtained from www.regulations.gov or the Southeast Regional Office Web site at http://sero.nmfs.noaa.gov. The Generic AM Amendment includes an environmental assessment, initial regulatory flexibility analysis (IRFA), regulatory impact review, and fishery impact statement.

FOR FURTHER INFORMATION CONTACT: Mary Janine Vara, NMFS SERO, telephone: 727-824-5305, or email: mary.vara@noaa.gov.

SUPPLEMENTARY INFORMATION: The Magnuson-Stevens Fishery Conservation and Management Act (Magnuson-Stevens Act) requires each regional fishery management council to submit any fishery management plan or amendment to NMFS for review and approval, partial approval, or disapproval. The Magnuson-Stevens Act also requires that NMFS, upon receiving a plan or amendment, publish an announcement in the Federal Register notifying the public that the plan or amendment is available for review and comment.

Actions Contained in the Generic AM Amendment

Modifications to AMs for Snapper-Grouper Species and Golden Crab

This amendment would revise the AMs for golden tilefish, snowy grouper, gag, red grouper, black grouper, scamp, the shallow-water grouper complex, greater amberjack, the other jacks complex, bar jack, yellowtail snapper, mutton snapper, the other snappers complex, gray triggerfish, wreckfish (recreational sector), Atlantic spadefish, hogfish, red porgy, the other porgies complex, and golden crab (commercial sector).

Currently, the snapper-grouper species and golden crab addressed in this amendment have slightly different AMs in place compared to other snapper-grouper species. The Generic AM Amendment intends to modify the AMs for these species and species complexes to make them consistent with the majority of AMs already in place for other snapper-grouper species. Specifically, the recreational AMs would be updated to allow NMFS to close the recreational sectors in-season when the recreational ACLs are met or projected to be met. The proposed action would also modify the AMs to trigger post-season reductions in the following year's catch limit in the commercial and recreational sectors if the species, or one or more species in a species complex, is overfished and the total (commercial and recreational combined) ACL has been exceeded. Additionally, for the recreational sector, the fishing season may also be shortened to compensate for a total ACL overage in the previous year if the species or one or more species in a species complex is overfished. Modifying the AMs in this manner would create regulatory consistency among most federally managed species in the South Atlantic region.

Modifications to Commercial and Recreational Sector Allocations for Dolphin

The Generic AM Amendment revises the sector allocations for dolphin. The current sector allocations for dolphin are 92.46 percent for the recreational sector and 7.54 percent for the commercial sector. The Council chose these allocations using a sector allocation formula where 50 percent of the sector allocations are based on landings from a longer time series (1999-2008) and 50 percent of the sector allocations are based on landings from a shorter time series (2006-2008). This results in the current annual catch limits (ACL) of 1,157,001 lb (524,807 kg), round weight, for the commercial sector and 14,187,845 lb (6,435,498 kg), round weight, for the recreational sector. The Generic AM Amendment would revise the sector allocation formula for dolphin to be based on the average of the percentages of the total catch for 2008-2012. The recreational sector allocation for dolphin would be 90 percent with an ACL of 13,810,361 lb (6,264,274 kg), round weight, and the commercial sector allocation would be 10 percent with an ACL of 1,534,485 lb (696,031 kg), round weight.

The Council has submitted the Generic AM Amendment for Secretarial review, approval, and implementation. The decision to approve, partially approve, or disapprove the Generic AM Amendment will be based, in part, on consideration of comments, recommendations, and information received during the comment period on this notice of availability.

Proposed Rule for the Generic AM Amendment

A proposed rule that would implement the Generic AM Amendment has been drafted. In accordance with the Magnuson-Stevens Act, NMFS is evaluating the proposed rule to determine whether it is consistent with the FMP, the Magnuson-Stevens Act, and other applicable laws. If that determination is affirmative, NMFS will publish the proposed rule in the Federal Register for public review and comment.

Consideration of Public Comments

Comments received by September 14, 2015 will be considered by NMFS in the decision to approve, disapprove, or partially approve the amendment. Comments received after that date will not be considered by NMFS in this decision. All comments received by NMFS on the amendment or the proposed rule during their respective comment periods will be addressed in the final rule.

Authority: 16 U.S.C. 1801 et seq.

Dated: July 10, 2015.
Emily H. Menashes,
Acting Director, Office of Sustainable Fisheries, National Marine Fisheries Service.

[FR Doc. 2015-17334 Filed 7-14-15; 8:45 am]

BILLING CODE 3510-22-P